FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201307.

Agreement Name: Crowley/Sealand Space Charter Agreement.

Parties: Maersk Line A/S d/b/a Sealand and Crowley Latin America Services, LLC.

Filing Party: Wayne Rohde; Cozen O'Connnor.

Synopsis: The Agreement authorizes Crowley to charter space to Sealand in the trade between Port Everglades, FL on the one hand and Haiti and the Dominican Republic on the other hand.

Proposed Effective Date: 5/31/2019.

Location: https://www2.fmc.gov/FMC.Agreements.Web/Public/AgreementHistory/22408.

Agreement No.: 201308.

Agreement Name: APL/HLUSA Space Charter and Cooperative Working Agreement.

Parties: American President Lines, LLC and Hapag-Lloyd USA, LLC.

Filing Party: Patricia O'Neal; American President Lines, LLC.

Synopsis: The Agreement authorizes the parties to charter space to each other on an “as needed/as available” in the trade between ports on the U.S. Atlantic and Gulf Coasts, and ports in Germany, Italy, Latvia, Belgium, and Estonia.

Proposed Effective Date: 5/31/2019.

Location: https://www2.fmc.gov/FMC.Agreements.Web/Public/AgreementHistory/22409.

Agreement No.: 011463-014.

Agreement Name: Maersk/HL Central America Vessel Sharing Agreement.

Parties: Maersk Line A/S and Hapag-Lloyd AG.

Filing Party: Wayne Rohde; Cozen O'Connor.

Synopsis: The amendment changes the name of the Agreement, removes Ecuador, Peru and Chile from the scope of the Agreement, substantially revises the authority contained in Article 5, revises the duration and termination provisions of the Agreement, and makes other revisions to the Agreement. In addition, given the extent of the revisions, the amendment restates the Agreement.

Proposed Effective Date: 7/18/2019.

Location: https://www2.fmc.gov/FMC.Agreements.Web/Public/AgreementHistory/809.

Agreement No.: 201276-001.

Agreement Name: TransGulf, LLC—Linea Peninsular Inc. Slot Charter Agreement.

Parties: Linea Peninsular, Inc. and Transgulf, LLC.

Filing Party: Matthew Thomas, Blank Rome LLP.

Synopsis: The amendment reflects that the service is relocating the port in Mexico called under the Agreement from Altamira to Tuxpan.

Proposed Effective Date: 6/4/2019.

Location: https://www2.fmc.gov/FMC.Agreements.Web/Public/AgreementHistory/16295.

Agreement No.: 201309.

Agreement Name: Maersk Line/Hapag-Lloyd Slot Exchange Agreement.

Parties: Hapag-Lloyd AG and Maersk Line A/S.

Filing Party: Wayne Rohde; Cozen O'Connor.

Synopsis: The agreement authorizes the parties to exchange slots on their OC-1 and AGAS services in the trade between the U.S. Atlantic Coast and Australia, New Zealand, Colombia and Panama.

Proposed Effective Date: 7/21/2019.

Location: https://www2.fmc.gov/FMC.Agreements.Web/Public/AgreementHistory/22412.

Agreement No.: 011961-025.

Agreement Name: The Maritime Credit Agreement.

Parties: COSCO Container Lines Company Limited; Hamburg Sud; Maersk Line A/S; Wallenius Wilhelmsen Logistics; and ZIM Integrated Shipping Services Ltd.

Filing Party: Wayne Rohde; Cozen O'Connor.

Synopsis: The amendment adds Hamburg Sud as a party to the Agreement.

Proposed Effective Date: 7/21/2019.

Location: https://www2.fmc.gov/FMC.Agreements.Web/Public/AgreementHistory/426.

Dated: June 7, 2019.
Rachel E. Dickon,
Secretary.

[FR Doc. 2019-12420 Filed 6-11-19; 8:45 am]

BILLING CODE 6731-AA-P